SECURITIES AND EXCHANGE COMMISSION

[Release No. 34-76498; File No. SR-CBOE-2015-105]

Self-Regulatory Organizations; Chicago Board Options Exchange, Incorporated; Notice of Filing and Immediate Effectiveness of a Proposed Rule Change To Amend the Fees Schedule

November 20, 2015.

Pursuant to Section 19(b)(1) of the Securities Exchange Act of 1934 (the “Act”),¹ and Rule 19b-4 thereunder,² notice is hereby given that on November 16, 2015, Chicago Board Options Exchange, Incorporated (the “Exchange” or “CBOE”) filed with the Securities and Exchange Commission (the “Commission”) the proposed rule change as described in Items I, II, and III below, which Items have been prepared by the Exchange. The Commission is publishing this notice to solicit comments on the proposed rule change from interested persons.

¹ 15 U.S.C. 78s(b)(1).

² 17 CFR 240.19b-4.

I. Self-Regulatory Organization's Statement of the Terms of the Substance of the Proposed Rule Change

The Exchange proposes to amend its Fees Schedule. The text of the proposed rule change is available on the Exchange's Web site (http://www.cboe.com/AboutCBOE/CBOELegalRegulatoryHome.aspx), at the Exchange's Office of the Secretary, and at the Commission's Public Reference Room.

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in sections A, B, and C below, of the most significant aspects of such statements.

A. Self-Regulatory Organization's Statement of the Purpose of, and Statutory Basis for, the Proposed Rule Change

1. Purpose

The Exchange proposes to amend its Fees Schedule, effective November 16, 2015. Specifically, the Exchange proposes to amend the Fees Schedule with respect to Qualified Contingent Cross (“QCC”) ³ orders. Currently, the Fees Schedule provides for a transaction fee for all non-customer QCC orders of $0.15 per contract side (customer orders are not assessed a charge) and a $0.10 per contract credit for the initiating order side, regardless of origin code.⁴ The Exchange first proposes to increase the fee for QCC transactions from $0.15 per contract to $0.17 per contract for all non-customer orders. The Exchange notes that the proposed increase is in line with other exchanges.⁵

³ A QCC order is comprised of an order to buy or sell at least 1,000 contracts (or 10,000 mini-option contracts) that is identified as being part of a qualified contingent trade, coupled with a contra-side order or orders totaling an equal number of contracts.

⁴ The Exchange notes that the $0.10 per contract credit is not be available for customer-to-customer transactions.

⁵ See e.g., NASDAQ OMX PHLX LLC (“PHLX”) Pricing Schedule, Section II, QCC Transaction Fees.

Next, the Exchange proposes to provide that the maximum credit paid shall not exceed $350,000 per month per Trading Permit Holder (“TPH”). The Exchange notes that it will aggregate the credits of affiliated TPHs (TPHs with at least 75% common ownership between the firms as reflected on each firm's Form BD, Schedule A) for purposes of determining whether a TPH has met the QCC credit cap. The Exchange believes that, while limiting the amount of rebate that a market participant can receive, the current QCC rebate will continue to incentivize market participants to seek to obtain the highest rebate possible. The Exchange also notes that other Exchanges have similar caps on rebates offered for QCC transactions.⁶

⁶ See e.g., PHLX Pricing Schedule, Section II, QCC Transaction Fees and NSYE Amex Options Fees Schedule (“Amex”), Section IE, Qualified Contingent Cross (“QCC”) Fees and Credits for Standard Options and Mini Options.

2. Statutory Basis

The Exchange believes the proposed rule change is consistent with the Securities Exchange Act of 1934 (the “Act”) and the rules and regulations thereunder applicable to the Exchange and, in particular, the requirements of Section 6(b) of the Act. Specifically, the Exchange believes the proposed rule change is consistent with the Section 6(b)(5) requirements that the rules of an exchange be designed to prevent fraudulent and manipulative acts and practices, to promote just and equitable principles of trade, to foster cooperation and coordination with persons engaged in regulating, clearing, settling, processing information with respect to, and facilitation transactions in securities, to remove impediments to and perfect the mechanism of a free and open market and a national market system, and, in general, to protect investors and the public interest. Additionally, the Exchange believes the proposed rule change is consistent with Section 6(b)(4) of the Act, which requires that Exchange rules provide for the equitable allocation of reasonable dues, fees, and other charges among its Trading Permit Holders and other persons using its facilities.

The Exchange believes the proposed increase to the transaction fee for QCC orders is reasonable because the proposed amount is in line with the amount assessed at other Exchanges for similar transactions.⁷ Additionally, the proposed fee increase would be charged to all non-customers alike. Assessing QCC rates to all market participants except customers is equitable and not unfairly discriminatory because Customer order flow enhances liquidity on the Exchange for the benefit of all market participants. Specifically, Customer liquidity benefits all market participants by providing more trading opportunities, which attracts Market-Makers. An increase in the activity of these market participants in turn facilitates tighter spreads, which may cause an additional corresponding increase in order flow from other market participants. By exempting customer orders, the QCC transaction fees will not discourage the sending of customer orders.

⁷ See e.g., PHLX Pricing Schedule, Section II, QCC Transaction Fees and NSYE Amex Options Fees Schedule, Section I.E, Qualified Contingent Cross (“QCC”) Fees and Credits for Standard Options and Mini Options.

The Exchange believes the proposed QCC credit cap is reasonable, equitable and not unfairly discriminatory because it is in line with similar caps on rebates paid for QCC transactions at other exchanges ⁸ and because all TPHs would be uniformly capped at $350,000 per month. The Exchange also believes it's reasonable, equitable and not unfairly discriminatory to provide that it will aggregate the credits of affiliated TPHs to determine whether the credit cap has been met, as the Exchange believes this should prevent TPHs from dividing up their orders to different affiliates in order to avoid meeting the cap and it would apply to all TPHs.

⁸ Id.

B. Self-Regulatory Organization's Statement on Burden on Competition

The Exchange does not believe that the proposed rule changes will impose any burden on competition that are not necessary or appropriate in furtherance of the purposes of the Act. The Exchange does not believe that the proposed rule change will impose any burden on intramarket competition that is not necessary or appropriate in furtherance of the purposes of the Act, because the proposes [sic] rule changes apply uniformly to all Trading Permit Holders. The Exchange believes this proposal will not cause an unnecessary burden on intermarket competition because it only affects trading on CBOE. To the extent that the proposed changes make CBOE a more attractive marketplace for market participants at other exchanges, such market participants are welcome to become CBOE market participants. Additionally, the Exchange notes that it operates in a highly competitive market, comprised of thirteen options exchanges, in which market participants can easily and readily direct order flow to competing venues if they deem fee levels at a particular venue to be excessive or rebates to be inadequate.

C. Self-Regulatory Organization's Statement on Comments on the Proposed Rule Change Received From Members, Participants, or Others

The Exchange neither solicited nor received comments on the proposed rule change.

III. Date of Effectiveness of the Proposed Rule Change and Timing for Commission Action

The foregoing rule change has become effective pursuant to Section 19(b)(3)(A) of the Act ⁹ and paragraph (f) of Rule 19b-4 ¹⁰ thereunder. At any time within 60 days of the filing of the proposed rule change, the Commission summarily may temporarily suspend such rule change if it appears to the Commission that such action is necessary or appropriate in the public interest, for the protection of investors, or otherwise in furtherance of the purposes of the Act. If the Commission takes such action, the Commission will institute proceedings to determine whether the proposed rule change should be approved or disapproved.

⁹ 15 U.S.C. 78s(b)(3)(A).

¹⁰ 17 CFR 240.19b-4(f).

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an email to rule-comments@sec.gov. Please include File Number SR-CBOE-2015-105 on the subject line.

Paper Comments

• Send paper comments in triplicate to Secretary, Securities and Exchange Commission, 100 F Street NE., Washington, DC 20549-1090.

All submissions should refer to File Number SR-CBOE-2015-105. This file number should be included on the subject line if email is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street NE., Washington, DC 20549 on official business days between the hours of 10:00 a.m. and 3:00 p.m. Copies of such filing also will be available for inspection and copying at the principal offices of the Exchange. All comments received will be posted without change; the Commission does not edit personal identifying information from submissions. You should submit only information that you wish to make available publicly. All submissions should refer to File Number SR-CBOE-2015-105, and should be submitted on or before December 18, 2015.

¹¹ 17 CFR 200.30-3(a)(12).

For the Commission, by the Division of Trading and Markets, pursuant to delegated authority.¹¹
Robert W. Errett,
Deputy Secretary.

[FR Doc. 2015-30087 Filed 11-25-15; 8:45 am]

BILLING CODE 8011-01-P